DEPARTMENT OF HOMELAND SECURITY

Federal Emergency Management Agency

Grants to States for Community Emergency Response Teams

AGENCY: U.S. Fire Administration (USFA), Federal Emergency Management Agency, Emergency Preparedness and Response Directorate, Department of Homeland Security.

ACTION: Notice of funds availability.

SUMMARY: FEMA gives notice of the availability of grant funding in the amount of $18.8 million for fiscal year (FY) 2003 for the development or improvement of Community Emergency Response Teams (CERTs).

FOR FURTHER INFORMATION CONTACT: Sam Isenberger, National Emergency Training Center, Training Division, 16825 S. Seton Avenue, Emmitsburg, MD 21727. Telephone No. (301) 447-1071 or e-mail: sam.isenberger@dhs.gov.

SUPPLEMENTARY INFORMATION: The CERT concept was developed and implemented by the Los Angeles City Fire Department in 1985. When emergencies occur, CERT members can give critical support to first responders, provide immediate assistance to victims, and organize spontaneous volunteers at a disaster site. CERT members can also help with non-emergency projects that help improve the safety of the community.

The CERT training program, made available nationally by FEMA in 1993, is a 20-hour course typically delivered over a seven-week period. Training sessions cover disaster preparedness, disaster fire suppression, basic disaster medical operations, light search and rescue, and team operations.

The FY 2003 grant funding is in addition to $17 million distributed under the FY 2002 emergency supplemental appropriation. In the FY 2003 program, FEMA intends to continue, maintain, and expand existing State and local CERT programs while supporting new CERT Train-The-Trainer courses and extending the CERT program into new jurisdictions nationwide.

Authority

Robert T. Stafford Disaster Relief and Emergency Assistance Act (Stafford Act), 42 U.S.C. 5121-5206.

Appropriations

The Consolidated Appropriations Resolution, 2003, Pub. L. 108-7, provides $20 million for CERTs of which FEMA is using $18.8 million for grants and $1.2 million for FEMA activities essential for the development and maintenance of the CERT training program.

Applicant Eligibility

States are eligible to apply for the assistance described in this notice. The term “State” as used in this notice and consistent with the Stafford Act, 42 U.S.C. 5122(4), means any State of the United States, the District of Columbia, Puerto Rico, the Virgin Islands, Guam, American Samoa, and the Commonwealth of the Northern Mariana Islands.

Local governments may receive assistance as subgrantees of the States in which they are located. The term “Local government” as used in this notice shall have the meaning set forth in the Stafford Act, 42 U.S.C. 5122(6).

Target Funding Allocations

Funds are allocated on the basis of population with minimums, or base amounts, derived using the percentages prescribed in Section 1014 of the USA Patriot Act. Each of the fifty States, the District of Columbia, and Puerto Rico will be allocated a base amount of 0.75 percent of the total funding available. The insular areas of the Virgin Islands, American Samoa, Guam, and the Commonwealth of the Northern Mariana Islands will be allocated a base amount of 0.25 percent of the total funding available. The remainder of the funding available will be allocated on the basis of the most recent official population estimates.

Cost-Share and Pass-Through Requirements

There is no cost-share, or matching, requirement associated with funding under this program. Grantees must pass through at least 75 percent of the funding received to local governments, also with no matching requirement.

Activities To Be Funded

• Grantees conduct CERT Train-The-Trainer courses to prepare program managers and instructional teams who will initiate or expand the CERT training program.

• Local governments initiate, organize, train, and maintain CERTs and use these teams as an emergency management resource and as a volunteer pool to perform special projects that improve a community's preparedness. This may include the purchase of CERT equipment including hard hats, safety vests, goggles, and gloves that will remain the property of the State or local jurisdiction.

• Communities with established CERT programs continue, maintain, and expand these programs.

Grant Application Process

The grant application for CERT funding must include:

• Application for Federal Assistance, Standard Form 424;

• Budget Information—Non-Construction Program, FEMA Form 20-20;

• Budget Narrative;

• Summary Sheet for Assurances and Certification, FEMA Form 20-16;

• Assurances—Non-Construction Program, FEMA Form 20-16A;

• Certification Regarding Lobbying; Debarment, Suspension and Other Responsibility Matters; and Drug-Free Workplace Requirements, FEMA Form 20-16C;

• Disclosure of Lobbying Activities, Standard Form LLL; and

• Program Narrative identifying the activities for which funding is requested.

The Program Narrative should include the following:

• A timeline for conducting CERT Train-The-Trainer (TTT) courses for the State's jurisdictions;

• A process for soliciting, evaluating, and awarding subgrants to local governments that will establish or continue CERT programs as part of their community preparedness efforts;

• Criteria for awarding subgrants; and

• Description of the procedure the State will use to meet the reporting requirements to the FEMA Regional office.

Applications should be submitted to the FEMA Regional Offices no later than four weeks after receipt of request for applications from the FEMA Regional offices. The FEMA Regional addresses are found at the end of this notice. FEMA Regional offices will work directly with State points of contact, as needed, on the development of applications. Applications will be reviewed to determine that:

• A time line has been identified for distributing funds to localities.

• A time line has been identified, if applicable, for conducting CERT Train-The-Trainer courses.

• The State has explained how it will solicit, evaluate, and award subgrants to local governments.

• The State has identified the sponsorship for State's and localities' Emergency Management Institute CERT programs: public sector emergency management, response agency, or local Citizen Corps Council.

• The State has given a proposed number of trained CERT instructors.

• The State has given a proposed number of people who will be trained using the CERT program.

• The State provides information on its plans for maintaining CERT members including how they can be used to supplement emergency management activities in disaster and non-disaster situations.

• The State will require as part of the subgrant to local governments that they will list their programs in the Directory of CERT Programs by State on the CERT Internet Web site.

State points of contact will be notified of all relevant time requirements for submission of applications.

Performance Periods

The performance period for grants to support CERT activities is 12 months from the date of the grant award.

Reporting Requirements

The States are required to submit quarterly financial and performance reports 30 days after the end of each quarter, per 44 CFR 13.40 and 41. Reporting dates are: January 30, April 30, July 30, and October 30. The performance reports will provide a comparison of actual accomplishments to the objectives approved for the period. Grantee and subgrantee activities should be reported for the reporting period and for the cumulative period from the grant award date. Program performance reports shall include the following information:

• Total amount of grant funds used to date and for what activities;

• Number of CERT trainers and members trained, by location;

• Concerns regarding a jurisdiction using its grant allocation or meeting its training targets (Include any suggested remedies); and

• Examples of emergency and non-emergency use of CERT in the community.

When the Department of Health and Human Services (HHS) Payment Management System (SMARTLINK) is used for advanced or reimbursement payments, the grantee is required to submit a copy of Federal Cash Transaction Report (HHS/PMS 272) to FEMA when it is submitted to HHS. In addition, final financial and performance reports are required 90 days after the close of the grant, per 44 CFR 13.50.

Addresses: FEMA Regional Offices:

FEMA Region I—Serving the States of Maine, New Hampshire, Vermont, Rhode Island, Connecticut, and Massachusetts: 442 J.W. McCormack POCH, Boston, MA 02109-4595.

FEMA Region II—Serving the States of New York and New Jersey, the Commonwealth of Puerto Rico and the Territory of the U.S. Virgin Islands: 26 Federal Plaza, Rm. 1337, New York, NY 10278-0002.

FEMA Region III—Serving the District of Columbia and the States of Delaware, Maryland, Pennsylvania, Virginia, and West Virginia: 1 Independence Mall, 6th Floor, 615 Chestnut Street, Philadelphia, PA 19106-4404.

FEMA Region IV—Serving the States of Alabama, Florida, Georgia, Kentucky, Mississippi, North Carolina, South Carolina and Tennessee: 3003 Chamblee Tucker Road, Atlanta, GA 30341.

FEMA Region V—Serving the States of Illinois, Indiana, Michigan, Minnesota, Ohio and Wisconsin: 536 S. Clark Street, 6th Floor, Chicago, IL 60605.

FEMA Region VI—Serving the States of Arkansas, Louisiana, New Mexico, Oklahoma and Texas: FRC 800 North Loop 288, Denton, TX 76201-3698.

FEMA Region VII—Serving the States of Iowa, Kansas, Missouri, and Nebraska: 2323 Grand Blvd., Suite 900, Kansas City, MO 64108.

FEMA Region VIII—Serving the States of Colorado, Montana, North Dakota, South Dakota, Utah, and Wyoming: Denver Federal Center, Building 710, Box 25267, Denver, CO 80225-0267.

FEMA Region IX—Serving the States of Arizona, California, Hawaii and Nevada; the Territories of American Samoa and Guam, and the Commonwealth of the Northern Mariana Islands: 1111 Broadway, Suite 1200, Oakland, CA 94607-4052.

FEMA Region X—Serving the States of Alaska, Idaho, Oregon and Washington: Federal Regional Center, 130 228th Street, SW., Bothell, WA 98021-9709.

Michael D. Brown,
Under Secretary, Emergency Preparedness and Response Directorate.

[FR Doc. 03-20855 Filed 8-14-03; 8:45 am]

BILLING CODE 6718-04-P